DEPARTMENT OF HOMELAND SECURITY

Coast Guard

33 CFR Part 100

[Docket No. USCG-2022-0162]

Special Local Regulations; Seventh Coast Guard District, Mug Race

AGENCY: Coast Guard, Department of Homeland Security (DHS).

ACTION: Notification of enforcement of regulation.

SUMMARY: The Coast Guard will enforce the special local regulations for the Mug Race on May 7, 2022, to provide for the safety of life on navigable waterways during this event. Our regulation for marine events within the Seventh Coast Guard District identifies the regulated area for this event on the St Johns River from Palatka, FL, to Jacksonville, FL. During the enforcement periods, the operator of any vessel in the regulated area must comply with directions from the Patrol Commander or any Official Patrol displaying a Coast Guard ensign.

DATES: The regulations in 33 CFR 100.701, Table 1 to § 100.701, section (c), Item 14, will be enforced from 7:00 a.m. until 9:00 p.m. on May 7, 2022.

FOR FURTHER INFORMATION CONTACT: If you have questions about this notification of enforcement, call or email MST2 Shawn Keeman, Sector Jacksonville, Waterways Management Division, U.S. Coast Guard; telephone 904-714-7661, email Shawn.R.Keeman@uscg.mil.

SUPPLEMENTARY INFORMATION: The Coast Guard will enforce special local regulations in 33 CFR 100.701, Table 1 to § 100.701, section (c), Item 14, for the 68th Mug Race regulated from 7:00 a.m. until 9:00 p.m., on May 7, 2022. This action is being taken to provide for the safety of life on navigable waterways during the event. Our regulation for recurring marine events within the Seventh Coast Guard District, § 100.701, Table 1 to § 100.701, section (c), Item 14, specifies the location of the regulated area for the Mug Race which encompasses portions of the St Johns River from Palatka, FL, at the U.S. 17 Bridge, to Jacksonville, FL, near theI-295 Bridge. During the enforcement periods, as reflected in in § 100.701, if you are the operator of a vessel in the regulated area you must comply with directions from the Patrol Commander or any Official Patrol displaying a Coast Guard ensign.

In addition to this notification of enforcement in the Federal Register, the Coast Guard plans to provide notification of this enforcement period via the Local Notice to Mariners and/or marine information broadcasts.

Dated: March 11, 2022.
M.R. Vlaun,
Captain, U.S. Coast Guard, Captain of the Port Jacksonville.

[FR Doc. 2022-06430 Filed 3-25-22; 8:45 am]

BILLING CODE 9110-04-P